DEPARTMENT OF LABOR

Office of the Secretary

Submission for OMB Review: Comment Request

January 26, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on (202) 693-4129 (this is not a toll-free number) or e-mail: king.darrin@dol.gov.

Comments should be sent to Office of Information and Regulatory Affairs, Attn: OMB Desk Officer for the Employee Benefits Security Administration (EBSA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: Class Exemption 81-8 for Investment of Plan Assets in Certain Types of Short-Term Investments.

OMB Number: 1210-0061.

Frequency: On occasion.

Type of Response: Third party disclosure.

Affected Public: Business or other for-profit; not-for-profit institutions; and individuals or households.

Number of Respondents: 46,000.

Number of Annual Responses: 230,000.

Estimated Time per Response: 10 minutes.

Total Burden Hours: 38,300.

Total Annualized Capital/Startup Costs: $0.

Total Annual Costs (operating/maintaining systems or purchasing services): $85,100.

Description: Prohibited Transaction Class Exemption 81-8 permits the investment of plan assets that involve the purchase or other acquisition, holding, sale, exchange or redemption by or on behalf of an employee benefit plan in certain types of short-term investments. These include investments in banker's acceptances, commercial paper, repurchase agreements, certificates of deposit, and bank securities. Absent the exemption, certain aspects of these transactions might be prohibited by section 406 of the Employee Retirement Income Security Act (ERISA).

The information collection requirements incorporated within this class exemption are intended to protect the interests of plan participants and beneficiaries and provide the Department with sufficient information to support a finding that the exemption meets the statutory standards of section 406 of ERISA.

Agency: Employee Benefits Security Administration.

Type of Review: Extension of currently approved collection.

Title: Prohibited Transaction Class Exemption 96-62; Process for Expedited Approval of an Exemption for Prohibited Transaction.

OMB Number: 1210-0098.

Frequency: On occasion.

Type of Response: Reporting and third party disclosure.

Affected Public: Business or other for-profit; not-for-profit institutions; and individuals or households.

Number of Respondents: 45.

Number of Annual Responses: 45.

Estimated Time per Response: 1.5 minutes.

Total Burden Hours: 56.

Total Annualized Capital/Startup Costs: $0.

Total Annual Costs (operating/maintaining systems or purchasing services): $40,463.

Description: Prohibited Transaction Exemption 96-62, which, pursuant to the exemption procedure set forth in 29 CFR part 2570, subpart B, permits a plan to seek approval on an accelerated basis of other wise prohibited transactions. The information collection requirements of this class exemption provide the Department with sufficient information to support a finding that the exemption meets the statutory standards of section 408(a) of Employee Retirement Income Security Act of 1974.

Ira L. Mills,
Departmental Clearance Officer.

[FR Doc. 05-2195 Filed 2-3-05; 8:45 am]

BILLING CODE 4510-29-M